DEPARTMENT OF AGRICULTURE

Rural Business-Cooperative Service

[Docket #: RBS-21-BUSINESS-0032]

Notice of Solicitation of Applications for Inviting Applications for the Rural Business Development Grant Programs for Fiscal Year 2022

AGENCY: Rural Business-Cooperative Service, USDA.

ACTION: Notice.

SUMMARY: This notice is given to invite applications for grants under the Rural Business Development Grant (RBDG) Program for fiscal year (FY) 2022, subject to the availability of funding. This notice is being issued in order to allow applicants sufficient time to leverage financing, prepare and submit their applications, and give the Agency time to process applications within FY 2022. Successful applications will be selected by the Agency for funding and subsequently awarded to the extent that funding may ultimately be made available through appropriations. An announcement on the website at https://www.rd.usda.gov/newsroom/notices-solicitation-applications-nosas will identify the amount available in FY 2022 for RBDG applications. All applicants are responsible for any expenses incurred in developing their applications.

DATES: Complete applications may be submitted in paper or electronic format and must be received by 4:30 p.m. local time on February 28, 2022, in the USDA Rural Development State Office for the State where the Project is located. A list of the USDA Rural Development State Offices can be found at: https://www.rd.usda.gov/about-rd/state-offices.

ADDRESSES: This funding announcement will also be announced on www.Grants.gov. Applications must be submitted to the USDA Rural Development State Office for the State where the Project is located. For Projects involving multiple states, the application must be filed in the Rural Development State Office where the Applicant is located. Applicants are encouraged to contact their respective Rural Development State Office for an email contact to submit an electronic application prior to the submission deadline date. A list of the USDA Rural Development State Office contacts can be found at: https://www.rd.usda.gov/about-rd/state-offices.

FOR FURTHER INFORMATION CONTACT: Lisa Sharp at lisa.sharp@usda.gov, or Cindy Mason at cindy.mason@usda.gov, Program Management Division, Rural Business-Cooperative Service, U.S. Department of Agriculture, 1400 Independence Avenue SW, MS 3226, Room 5160-South, Washington, DC 20250-3226, or call (202) 720-1400. For further information on submitting program applications under this notice, please contact the USDA Rural Development State Office in the State where the applicant's headquarters is located. A list of Rural Development State Office contacts is provided at the following link: https://www.rd.usda.gov/about-rd/state-offices.

Overview

Solicitation Opportunity Type: Rural Business Development Grant.

Announcement Type: Initial Solicitation Announcement.

Catalog of Federal Domestic Assistance Number: 10.351.

Dates: The deadline for completed applications to be received in the USDA Rural Development State Office has been established as no later than 4:30 p.m. (local time) on February 28, 2022. A list of the USDA Rural Development State Offices can be found at: https://www.rd.usda.gov/about-rd/state-offices.

Set Aside Funding: The Consolidated Appropriations Act, 2021 (Pub. L. 116-260), designated funding for Federally-Recognized Native American Tribes, Rural Empowerment Zone/Enterprise Communities/Rural Economic Area Partnerships, projects in Persistent Poverty Counties (as discussed below), Native American Persistent Poverty areas and for Strategic Economic and Community Development (SECD) projects in FY 2021. Set aside funding may ultimately be made available through appropriations in FY 2022 where continued emphasis is given to financial assistance for projects located in these areas. Eligible applicants for the Native American and Rural Empowerment Zone/Enterprise Communities/Rural Economic Area Partnership set aside funds, if available, must demonstrate that at least 75 percent of the benefits of an approved grant will assist beneficiaries in the designated areas. Eligible applicants for the Persistent Poverty Counties, Native American Persistent Poverty areas, and the SECD set-aside funds, if available, must demonstrate that 100 percent of the benefits of an approved grant will assist beneficiaries in the designated areas. The completed application deadline for these set aside funds, if available, is consistent with the RBDG application deadline date of February 28, 2022. Applicants for set aside funds must indicate that they are applying for set aside funds and may not submit a duplicate application for regular RBDG funds. If funding for an anticipated set aside program is not appropriated in FY 2022, or if any eligible applications for set aside funding are not funded due to insufficient funds, such applications will be allowed to compete for available FY 2022 regular RBDG funds in the State where the Project is located.

Persistent poverty counties: The Consolidated Appropriations Act, 2021 (Pub. L. 116-260) designated funding for projects in Persistent Poverty Counties. “Persistent Poverty Counties” as defined in Section 736 is “any county that has had 20 percent or more of its population living in poverty over the past 30 years, as measured by the 1990 and 2000 decennial censuses, and 2007-2011 American Community Survey 5-year average, or any territory or possession of the United States”. Another provision in Section 736 expands the eligible population in Persistent Poverty Counties to include any county seat of such a Persistent Poverty County that has a population that does not exceed the authorized population limit by more than 10 percent. This provision expands the current 50,000 population limit to 55,000 for only county seats located in Persistent Poverty Counties. Therefore, beneficiaries of technical assistance services located in county seats of Persistent Poverty Counties with populations up to 55,000 (per the 2010 Census) are eligible.

A. Program Description

1. Purpose of the Program. The purpose of the program is to promote economic development and job creation projects through the awarding of grant funds to eligible entities. Applications will compete in two separate categories, business opportunity grants and business enterprise grants, for use in funding various business and community projects that serve rural areas.

Business opportunity projects must be in compliance with eligible uses as stated in 7 CFR 4280.417(a)(1) that include the establishment of business support centers or providing funds for job training and leadership development in rural areas. Business opportunity projects must be consistent with any local and area-wide strategic plans for community and economic development, coordinated with other economic development activities in the project area, and consistent with any Rural Development State Strategic Plan.

Business enterprise projects must be in compliance with 7 CFR 4280.417(a)(2) and are used to finance or develop small and emerging businesses in rural areas. Enterprise grant purposes include projects for the acquisition and development of land, access streets and roads, the conversion or modernization of buildings, capitalization of revolving loan funds and the purchase of machinery and equipment for businesses located in a rural area.

The Agency encourages applicants to consider projects that will advance the key priorities below:

• Assisting Rural communities recover economically from the impacts of the COVID-19 pandemic, particularly disadvantaged communities.

• Ensuring all rural residents have equitable access to RD programs and benefits from RD funded projects.

• Reducing climate pollution and increasing resilience to the impacts of climate change through economic support to rural communities.

2. Statutory and Regulatory Authority. The RBDG Program is authorized under 7 U.S.C. 1932(c) and implemented by 7 CFR part 4280, subpart E. Assistance provided under the RBDG Program will be made to eligible entities and will be used for funding various business opportunity projects and business enterprise projects, as applicable, that serve Rural Areas.

3. Definition of Terms. The definitions applicable to this notice are published at 7 CFR 4280.403.

4. Application Awards. Awards under the RBDG Program will be made on a competitive basis using specific selection criteria contained in 7 CFR part 4280, subpart E. The Agency will review, evaluate, and score applications received in response to this notice based on the provisions found in 7 CFR part 4280, subpart E, and as indicated in this notice. The Agency advises all interested parties that the applicant bears the full burden in preparing and submitting an application in response to this notice whether or not funding is appropriated for this Program in FY 2022.

B. Federal Award Information

Type of Awards: Grants.

Fiscal Year Funds: FY 2022.

Available Funds: Anyone interested in submitting an application for funding under this Program is encouraged to consult the Rural Development Notices of Solicitation of Applications website at http://www.rd.usda.gov/newsroom/notices-solicitation-applications-nosas.

Anticipated Award Dates: Set Aside awards, if applicable: May 31, 2022. Regular awards: August 31, 2022.

Performance Period: June 1, 2022, through September 30, 2024.

Renewal or Supplemental Awards: None.

C. Eligibility Information

1. Eligible Applicants.

Grants may be made to a Public Body/Government Entity, an Indian Tribe, or a Nonprofit entity primarily serving rural areas. In accordance with 7 CFR 4280.416(d), applicants that are not delinquent on any Federal debt or not otherwise disqualified from participation in these Programs are eligible to apply. The Agency will check the System for Award Management (SAM) to determine if the applicant has been debarred or suspended at the time of application and prior to the awarding of grant funds.

2. Dun and Bradstreet Data Universal Numbering System and System for Award Management.

All applicants must have a Dun and Bradstreet Data Universal Numbering System (DUNS) number which can be obtained at no cost via a toll-free request line at (866) 705-5711 or at http://fedgov.dnb.com/webform or any subsequent unique entity identifier number. Each applicant applying for loan or grant funds must (i) be registered in the System for Award Management (SAM) before submitting its application and (ii) provide a valid unique entity identifier in its application, unless determined exempt under 2 CFR 25.110. Applicants must maintain an active SAM registration, with current, accurate and complete information, at all times during which it has an active Federal award or an application under consideration by a Federal awarding agency. Applicants must ensure they complete the Financial Assistance General Certifications and Representations in SAM.

The Agency will not make an award until the applicant has complied with all applicable DUNS (unique entity identifier) and SAM requirements. If an applicant has not fully complied with the requirements by the time the Agency is ready to make an award, the agency may determine that the applicant is not qualified to receive a Federal award and use that determination as a basis for making a Federal award to another applicant.

All other restrictions in this notice will apply.

The Agency requires information to make an eligibility determination through applications that must include, but are not limited to, the following:

(a) An original and one copy of SF-424, “Application For Federal Assistance (For Non-construction)” and an original Form RD 400-4, “Assurance Agreement”;

(b) Copies of applicant's organizational documents showing the applicant's legal existence and authority to perform the activities under the grant;

(c) A proposed scope of work, including a description of the proposed Project. Grant funds may be used for projects identified in 7 CFR 4280.417(a) as either a business opportunity type grant or a business enterprise type grant. The scope of work must include details of the proposed activities to be accomplished and timeframes for completion of each task, the number of months duration of the Project, and the estimated time it will take from grant approval to beginning of Project implementation. In accordance with 7 CFR 4280.421, a Project must reasonably be expected to be completed within 1 full year after it has begun;

(d) A written narrative that includes, at a minimum, the following items:

(1) An explanation of why the Project is needed, the benefits of the proposed Project, and how the Project meets the eligible grant purposes;

(2) Area to be served, identifying each governmental unit, i.e., town, county, Indian reservation, etc., to be affected by the Project;

(3) Description of how the Project will coordinate Economic Development activities with other Economic Development activities within the Project area;

(4) Business to be assisted, if appropriate, and Economic Development to be accomplished;

(5) An explanation of how the proposed Project will result in newly created, increased, or supported jobs in the area and the number of projected new and supported jobs within the next 3 years;

(6) A description of the applicant's demonstrated capability and experience in providing the proposed Project assistance or similar Economic Development activities, including experience of key staff members and persons who will be providing the proposed Project activities and managing the Project;

(7) The method and rationale used to select the areas and businesses that will receive the service;

(8) A brief description of how the work will be performed including whether organizational staff or consultants or contractors will be used;

(9) Please note that no assistance or funding can be provided to hemp producers or processors unless they have a valid license issued from an approved State, Tribal or Federal plan as per Section 10113 of the Agriculture Improvement Act of 2018, Public Law 115-334. Verification of valid hemp licenses will occur at the time of award; and

(10) Other information the Agency may request to assist in making a grant award determination.

(e) The latest 3 years of financial information to show the applicant's financial capacity to carry out the proposed work. If the applicant is less than 3 years old, at a minimum, the information should include all balance sheet(s), income statement(s), and cash flow statement(s) since the date of the applicant's formation. A current financial statement of the applicant, within 90 days of the application submission, is required;

(f) Intergovernmental review comments from the State Single Point of Contact, or evidence that the State has elected not to review the program under Executive Order 12372. Applications from federally recognized tribes are exempt from this requirement;

(g) Documentation regarding the availability and amount of other funds to be used in conjunction with the funds from the RBDG award;

(h) A budget which includes salaries, fringe benefits, consultant costs, indirect costs, and other appropriate direct costs for the Project; and

(i) RBDG construction project grants must conform with 7 CFR part 1924, subpart A and the environmental policies and procedures of 7 CFR part 1970.

3. General Processing and Scoring Provisions.

The Agency will review each application for assistance in accordance with the scoring provisions and program priorities established in 7 CFR 4280.435. The Agency will assign each application a priority rating based on the total score and will select applications for funding based on the priority ratings and the total funds available to the program for opportunity-type projects and enterprise-type projects.

(a) The Agency will score each application based on the information contained in the application and its supporting information. All applications submitted for funding must be in one package and contain sufficient information to permit the Agency to complete a thorough priority rating. Agency employees may not consider any information that is not provided by the applicant in writing for scoring purposes. Applications will not be considered for funding if they do not provide sufficient information to determine eligibility or are missing required elements. Points will be awarded to an eligible application as follows:

• Leveraging. If the grant will fund a critical element of a larger program of Economic Development, without which the overall program either could not proceed or would be far less effective, or if the program to be assisted by the grant will also be partially funded from other sources, points will be awarded if Rural Development's funding is: (i) Less than 20 percent of the project costs—30 points; (ii) between 20 percent and up to 50 percent of the project—20 points; (iii) between 51 percent and up to 75 percent of the project—10 points. The application must contain a firm commitment in writing of other funding for the project or points will not be awarded to the application for leveraging.

• Demographics. Points will be awarded for each of the following criteria met by the community or communities that will receive the benefit of the grant, up to a total of 40 points from all categories: (i) Communities experiencing trauma due to a major natural disaster that occurred not more than 3 years prior to the filing of the application for assistance will be awarded 15 points; (ii) Communities that have suffered a loss of 20 percent or more in their total jobs caused by the closure of a military facility or other employers within the last 3 years will be awarded 15 points; (iii) Communities that have experienced Long-Term poverty as demonstrated by being a former Rural empowerment zone, Rural economic area partnership zone, Rural enterprise community, champion community, or a persistent poverty county as determined by USDA's Economic Research Service will receive 10 points; and (iv) If the community has experienced Long-Term population decline as demonstrated by the latest three decennial censuses, 10 points will be awarded.

• Population. Points will be awarded if the proposed project(s) will be located in a community of: (i) Under 5,000 population—15 points; (ii) Between 5,000 and up to 15,000 population—10 points; or (iii) Between 15,001 and 25,000 population—5 points.

• Unemployment. If the proposed project will be located in areas where the unemployment rate: (i) Exceeds the State rate by 25 percent or more—20 points will be awarded; (ii) exceeds the State rate by less than 25 percent—10 points will be awarded; or (iii) is equal to or less than the State unemployment rate—0 points will be awarded.

• Median household income. If the proposed project(s) will be located in areas where Median Household Income (MHI) as prescribed by section 673(2) of the Community Services Block Grant Act (42 U.S.C 106) for a family of 4 for the State is: (i) Less than or equal to the poverty line—25 points will be awarded; (ii) More than the poverty line but less than 65 percent of State MHI—15 points will be awarded; (iii) Between 65 and 85 percent of the State MHI—10 points will be awarded; or (iv) If the area has greater than 85 percent of the State MHI—0 points will be awarded.

• Experience. If the applicant provides evidence of successful experience in the type of activity proposed based on its current employees' resumes demonstrating: (i) 10 or more years of experience—30 points will be awarded; (ii) At least 5 but less than 10 years of experience—20 points will be awarded; (iii) At least 3 years but less than 5 years of experience—10 points will be awarded; or (iv) At least 1 but less than 3 years of experience—5 points will be awarded.

• Small business start-up or expansion. If the Applicant has evidence that small business development will be supported by startup or expansion as a result of the activities to be carried out under the grant by written evidence provided to the Agency from a small, or a Small and Emerging Business that includes the number of jobs that will be supported and created, 5 points will be awarded for each letter up to a total of 25 points. Letters must address the specific business producing the letter, the connection to the project activities and provide further information relative to job creation and support to meet the letter of support criteria. Generic or duplicated letters are not acceptable under this criterion.

• Jobs created or supported. Points will be awarded if the anticipated development, expansion, or furtherance of business enterprises as a result of the proposed Project will create and/or support existing jobs associated with the affected businesses. The number of jobs must be evidenced by a written commitment from the business(es) to be assisted. Points will be awarded based on the ratio of jobs to be supported by the amount of grant funds. For projects supporting: (i) One job for less than $5,000 of grant funds—25 points will be awarded; (ii) one job for $5,000 but less than $10,000 of grant funds—20 points; (iii) one job for $10,000 but less than $15,000—15 points; (iv) one job for $15,000 but less than $20,000—10 points; or (v) one job for $20,000 but less than $25,000 of grant funds—5 points will be awarded.

• Size of grant request. Projects utilizing grant funds of: (i) Less than $100,000—25 points will be awarded; (ii) $100,000 to $200,000—15 points will be awarded; or (iii) more than $200,000 but equal to or less than $500,000—10 points will be awarded. No points will be awarded to applications of $500,000 or greater.

• Indirect cost. If the applicant is not requesting grant funds to cover their administrative or indirect costs, 5 points will be awarded.

• Discretionary points. Either the State Director or Administrator may assign up to 50 discretionary points to an application when under their approval authority. Assignment of discretionary points must include a written justification. Permissible justifications are geographic distribution of funds, special Secretary of Agriculture initiatives such as Priority Communities, or a state's strategic goals. The number of points to be awarded will be determined by the impact of the project on the stated initiative. Discretionary points may only be assigned to initial grants. However, in the case where two Projects have the same score, the State Director may add one point to the Project that best fits the State's strategic plan regardless of whether the Project is an initial or subsequent grant. The following are examples of special Secretary of Agriculture initiatives that can support obtaining discretionary points.

(i) Assisting rural communities recover economically from the impacts of the COVID-19 pandemic, particularly disadvantaged communities. Applicant may receive priority points if the project is located in or serving one of the top 10% of counties or county equivalents based upon county risk score in the United States. The website, https://www.rd.usda.gov/priority-points, has the data to confirm if your location qualifies or not.

(ii) Ensuring all rural residents have equitable access to RD programs and benefits from RD funded projects. Applicant may receive priority points if the project is located in or serving a community with score 0.75 or above on the CDC Social Vulnerability Index. The website, https://www.rd.usda.gov/priority-points, has the data to confirm if your location qualifies or not.

(iii) Reduce climate pollution and increasing resilience to the impacts of climate change through economic support to rural communities. Applicants may receive points if the project is located in or serving coal, oil and gas, and power plant communities whose economic well-being ranks in the most distressed tier of the Distressed Communities Index. The website, https://www.rd.usda.gov/priority-points, has the data to confirm if your location qualifies or not. Or, applicants may receive points by demonstrating how proposed climate-impact projects improve the livelihoods of community residents and meet pollution mitigation or clean energy goals.

(b) Unfunded applications. The Agency will notify eligible applicants in writing if RBDG funds are not available. The applicant is permitted to respond in writing that they wish their application to be reconsidered in the next fiscal year. The applicant may provide additional updated information to the Agency prior to the next fiscal year's application deadline for their project.

(c) Unfunded applications for set aside funding. The Agency will notify eligible applicants in writing if set aside funds are not available. Applications that are eligible for set aside funds but are unfunded due to the availability of funds will be allowed to compete for available FY 2022 regular RBDG funds in the State where the Project is located. For Projects involving multiple states, the application will be returned to the Rural Development State Office where the Applicant is located and will compete for funds in that State. The Agency will notify eligible applicants in writing if their application will not be funded in FY 2022 due to insufficient funds in the set aside and regular RBDG programs.

D. Application and Submission Information

1. Address to Request Application Package.

For further information, entities wishing to apply for assistance should contact the USDA Rural Development State Office provided in the ADDRESSES section of this notice to obtain copies of the application package.

Prior to official submission of grant applications, applicants may request technical assistance or other application guidance from the Agency, as long as such requests are made prior to February 11, 2022. Technical assistance is not meant to be an analysis or assessment of the quality of the materials submitted, a substitute for agency review of completed applications, nor a determination of eligibility.

The Agency will not solicit or consider scoring or eligibility information that is submitted after the application deadline. The Agency reserves the right to contact applicants to seek clarification information on materials contained in the submitted application.

Applications may be submitted in paper or electronic format to the appropriate Rural Development State Office and must be received by 4:30 p.m. local time on February 28, 2022. Applicants are encouraged to contact their respective Rural Development State Office for an email contact to submit an electronic application prior to the submission deadline date(s). All applicants must have a Dun and Bradstreet Data Universal Numbering System (DUNS) number which can be obtained at no cost via a toll-free request line at: (866) 705-5711 or at http://fedgov.dnb.com/webform. Each applicant applying for grant funds (unless the applicant is an individual or Federal awarding agency that is excepted from the requirements under 2 CFR 25.110(b) or (c) or has an exception approved by the Federal awarding agency under 2 CFR 25.110(d)) is required to: (i) Be registered in the System for Award Management (SAM) before submitting its application; (ii) provide a valid unique entity identifier in its application; and (iii) continue to maintain an active SAM registration with current information at all times during which it has an active Federal award or an application or plan under consideration by a Federal awarding agency. The Federal awarding agency may not make a Federal award to an applicant until the applicant has complied with all applicable unique entity identifier and SAM requirements and, if an applicant has not fully complied with the requirements by the time the Federal awarding agency is ready to make a Federal award, the Federal awarding agency may determine that the applicant is not qualified to receive a Federal award and use that determination as a basis for making a Federal award to another applicant.

2. Content and Form of Application Submission.

An application must contain all of the required elements and be submitted in one package. Each selection priority criterion outlined in 7 CFR 4280.427 must be addressed in the application. Failure to address any of the criterion will result in a zero-point score for that criterion and will impact the overall evaluation of the application. An original copy of the application must be filed with the Rural Development State Office for the State where the Project is located. For Projects involving multiple states, the application must be filed in the Rural Development State Office where the Applicant is located.

The applicant documentation and forms needed for a complete application are located in the PROGRAM DESCRIPTION section of this notice, and in 7 CFR part 4280, subpart E, a copy of which will be provided to any interested applicant making a request to a Rural Development State Office. There are no specific formats required per this notice, and applicants may request forms and addresses from the ADDRESSES section of this notice. Any form that requires an original signature but is signed electronically in the application submission must be signed in ink by the authorized person prior to the disbursement of funds.

(a) There are no specific limitations on the number of pages or other formatting requirements other than those described in the PROGRAM DESCRIPTION section.

(b) There are no specific limitations on the number of pages, font size and type face, margins, paper size, and the sequence or assembly requirements but the application package should be well organized and include a table of contents, if appropriate.

(c) The component pieces of this application should contain original signatures on the original application.

3. Submission Dates and Times.

(a) Application Deadline Dates: Applications must be submitted to the appropriate Rural Development State Office no later than 4:30 p.m. (local time) on February 28, 2022.

(b) The deadline date means that the completed application package must be received in the USDA Rural Development State Office by the established deadline date and time. All application documents identified in this notice are required in the submission to be considered a complete application. The Agency will determine the application receipt date for paper applications based on the actual date postmarked. The date of receipt for electronic application submissions will be the date received in the Rural Development State Office by the designated Agency staff person.

(c) If completed applications are not received by the February 28, 2022, deadline, the application will neither be reviewed nor considered for funding under any circumstances.

(d) Indirect costs will be permitted in accordance with applicable law and in accordance with 2 CFR part 200. Pre-Federal award costs will only be permitted with prior written approval by the Agency.

(e) Applicants may submit applications in hard copy or electronic format as previously indicated in the Application and Submission Information section of this notice. If the applicant wishes to hand deliver its application, the addresses for these deliveries are located in the ADDRESSES section of this notice.

(f) If you require alternative means of communication for program information (e.g., Braille, large print, audiotape, etc.) please contact USDA's TARGET Center at (202) 720-2600 (voice and TDD).

E. Application Review Information

1. Criteria.

All eligible and complete applications will be evaluated and scored based on the selection criteria and weights contained in 7 CFR part 4280, subpart E. Failure to address any one of the criteria by the application deadline will result in the application being determined ineligible, and the application will not be considered for funding.

2. Review and Selection Process.

The Rural Development State Offices will review applications to determine if they are eligible for assistance based on requirements contained in 7 CFR 4280.416 and 7 CFR 4280.417. Funding of projects is subject to the availability of funds and Applicant's satisfactory submission of the items required by 7 CFR part 4280, subpart E and this Notice, in addition to any conditions specifically outlined in any issued USDA Rural Development Letter of Conditions if available funds are to be awarded.

Applications for set aside funds, if available, will compete at the National Office in their respective categories. Applications for regular RBDG projects will compete at the state level in their respective category, business opportunity grants or business enterprise grants, for funding made available through Rural Development State allocated funds. Applications will be reviewed, prioritized by score, and funded by ranking each Project in highest to lowest score order until available funds are exhausted. If funds are exhausted at the state level, each State's highest scoring unfunded business enterprise project will have the opportunity to compete for funding through a final national competition.

F. Federal Award Administration Information

1. Federal Award Notices.

Successful applicants will receive notification for funding from the Rural Development State Office. Applicants must comply with all applicable statutes and regulations before the grant award can be approved and funded. If an application is withdrawn by the applicant, it can be resubmitted later and will be evaluated as a new application in the period submitted.

2. Administrative and National Policy Requirements.

Additional requirements that apply to grantees selected for this Program can be found in 7 CFR part 4280, subpart E. Awards are subject to USDA grant regulations at 2 CFR part 400 which incorporated the Office of Management and Budget (OMB) regulations at 2 CFR part 200.

All successful applicants will be notified by letter which will include a Letter of Conditions and a Letter of Intent to Meet Conditions. This letter is not an authorization to begin performance, but it is a notification that grant funds may be awarded subject to conditions. The grant will be considered officially awarded when all conditions in the Letter of Conditions have been met and the Agency obligates the funding for the Project. If the applicant wishes to consider beginning their project performance prior to the grant being officially closed, all pre-award costs must be approved in writing and in advance by the Agency.

Additional requirements that apply to grantees selected for these Programs can be found in 7 CFR part 4280, subpart E, the Grants and Agreements regulations of the U.S. Department of Agriculture codified in 2 CFR 400.1 to 400.2 and 2 CFR parts 415 to 422, and successor regulations to these parts.

In addition, all recipients of Federal financial assistance are required to report information about first-tier sub-awards and executive compensation (see 2 CFR part 170). The applicant will be required to have the necessary processes and systems in place to comply with the Federal Funding Accountability and Transparency Act of 2006 (Pub. L. 109-282) reporting requirements (see 2 CFR 170.200(b), unless the recipient is exempt under 2 CFR 170.110(b)).

The following additional requirements apply to grantees selected for these Programs:

(a) Form RD 4280-2 “Rural Business-Cooperative Service Financial Assistance Agreement.”

(b) Letter of Conditions.

(c) Form RD 1940-1, “Request for Obligation of Funds.”

(d) Form RD 1942-46, “Letter of Intent to Meet Conditions.”

(e) SF LLL, “Disclosure of Lobbying Activities,” if applicable.

(f) Grantees will use Form SF 270, “Request for Advance or Reimbursement” when requesting grant funds from the Agency.

3. Reporting.

(a) A Financial Status Report and a Project performance activity report will be required of all grantees on a quarterly basis until initial funds are expended and yearly thereafter, if applicable, based on the Federal fiscal year. Grantees must continuously monitor performance to ensure that time schedules are being met, projected work by time periods is being accomplished, and other performance objectives are being achieved. Grantees must submit an original of each report to the Agency no later than 30 days after the end of the quarter. The grantee will complete the Project within the total time available to it in accordance with the Scope of Work and any necessary modifications thereof prepared by the grantee and approved by the Agency. A final Project performance report will be required with the final Financial Status Report. The final report may serve as the last quarterly report. The final report must provide complete information regarding the jobs created and supported as a result of the RBDG grant if applicable. The Project performance reports must include, but not be limited to, the following:

(1) A comparison of actual accomplishments to the objectives established for that period.

(2) Problems, delays, or adverse conditions, if any, which have affected or will affect attainment of overall Project objectives, prevent meeting time schedules or objectives, or preclude the attainment of particular Project work elements during established time periods. This disclosure shall be accompanied by a statement of the action taken or planned to resolve the situation.

(3) Objectives and timetable established for the next reporting period.

(4) Any special reporting requirements, such as jobs supported and created, businesses assisted, or economic development which results in improvements in median household incomes, and any other specific requirements, will be placed in the reporting section of the Letter of Conditions.

(5) Within 90 days after the conclusion of the Project, the grantee will provide a final Project evaluation report. The last quarterly payment will be withheld until the final report is received and approved by the Agency. Even though the grantee may request reimbursement on a monthly basis, the last 3 months of reimbursements will be withheld until a final report, Project performance, and financial status report are received and approved by the Agency.

(b) In addition to any reports required by 2 CFR part 200 and 2 CFR 400.1 to 400.2, and 2 CFR parts 415 to 422, the grantee must provide reports as required by 7 CFR part 4280, subpart E.

G. Federal Awarding Agency Contact(s)

For general questions about this announcement, please contact your USDA Rural Development State Office provided in the ADDRESSES section of this notice.

H. Civil Rights Requirements

All grants made under this notice are subject to Title VI of the Civil Rights Act of 1964 as required by the USDA (7 CFR part 15, subpart A) and Section 504 of the Rehabilitation Act of 1973, Title VIII of the Civil Rights Act of 1968, Title IX, Executive Order 13166 (Limited English Proficiency), Executive Order 11246, and the Equal Credit Opportunity Act of 1974.

I. Other Information

Paperwork Reduction Act

In accordance with the Paperwork Reduction Act of 1995, the information collection requirement contained in this notice is approved by OMB under OMB Control Number 0570-0070.

Federal Funding Accountability and Transparency Act

All applicants, in accordance with 2 CFR part 25, must have a DUNS number, which can be obtained at no cost via a toll-free request line at (866) 705-5711 or online at http://fedgov.dnb.com/webform. Similarly, all applicants applying for grant funds must be registered in SAM prior to submitting an application. Applicants may register for the SAM at http://www.sam.gov/SAM. All recipients of Federal financial grant assistance are required to report information about first-tier sub-awards and executive total compensation in accordance with 2 CFR part 170.

Nondiscrimination Statement

In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Karama Neal,
Administrator, Rural Business-Cooperative Service.

[FR Doc. 2021-20810 Filed 9-24-21; 8:45 am]

BILLING CODE 3410-XY-P